DEPARTMENT OF COMMERCE

National Oceanic and Atmospheric Administration

RIN 0648-XL79

Marine Mammals; File No. 87-1851

AGENCY: National Marine Fisheries Service (NMFS), National Oceanic and Atmospheric Administration (NOAA), Commerce.

ACTION: Notice; receipt of application for amendment.

SUMMARY: Notice is hereby given that Dr. Daniel P. Costa, Department of Biology and Institute of Marine Sciences, University of California Santa Cruz, Santa Cruz, CA, has applied for an amendment to Scientific Research Permit No. 87-1851-00.

DATES: Written, telefaxed, or e-mail comments must be received on or before December 18, 2008.

ADDRESSES: The application and related documents are available upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 87-1851.

FOR FURTHER INFORMATION CONTACT: Amy Sloan or Tammy Adams, (301)713-2289.

SUPPLEMENTARY INFORMATION: The subject amendment is requested under the authority of the Marine Mammal Protection Act of 1972, as amended (16 U.S.C. 1361 et seq.), and the regulations governing the taking and importing of marine mammals (50 CFR part 216).

Permit No. 87-1851-00, issued on January 29, 2007 (72 FR 5680), authorizes tagging studies and physiological research on seals in Antarctica, including crabeater seals (Lobodon carcinophagus), southern elephant seals (Mirounga leonina), leopard seals (Hydrurga leptonyx), Weddell seals (Leptonychotes weddellii), and Ross seals (Ommatophoca rossii). The permit also authorizes research on California sea lions (Zalophus californianus) to investigate foraging, diving, energetics, food habits, and at-sea distribution along the California coast. Incidental harassment of California sea lions, harbor seals (Phoca vitulina), northern elephant seals (Mirounga augustirostris), and northern fur seals (Callorhinus ursinus) is authorized. The permit expires on January 31, 2012.

The permit holder is requesting the permit be amended to expand the geographic area where research is conducted in Antarctica to include the Weddell Sea. No other changes are requested. The permit holder requests the changes proposed in the amendment be for the duration of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: November 13, 2008.
P. Michael Payne,
Chief, Permits, Conservation and Education Division, Office of Protected Resources, National Marine Fisheries Service.

[FR Doc. E8-27336 Filed 11-17-08; 8:45 am]

BILLING CODE 3510-22-S